DEPARTMENT OF HOMELAND SECURITY

Federal Emergency Management Agency

44 CFR Part 9

[Docket ID FEMA-2015-0006]

Guidance for Implementing the Federal Flood Risk Management Standard

AGENCY: Federal Emergency Management Agency, DHS.

ACTION: Notice of availability; request for comments.

SUMMARY: The Federal Emergency Management Agency (FEMA) is accepting comments on the proposed guidance for implementing the Federal Flood Risk Management Standard (FFRMS).

DATES: Comments must be received by October 21, 2016.

ADDRESSES: Comments must be identified by Docket ID: FEMA-2015-0006 and may be submitted by one of the following methods:

Federal eRulemaking Portal: http://www.regulations.gov. Follow the instructions for submitting comments.

Mail: Regulatory Affairs Division, Office of the Chief Counsel, Federal Emergency Management Agency, Room 8NE-1604, 500 C Street SW., Washington, DC 20472-3100.

The proposed guidance may be found at http://www.regulations.gov, using Docket ID FEMA-2015-0006. Members of the public without internet access may request a copy of the policy from using the information in the FOR FURTHER INFORMATION CONTACT section of this notice.

FOR FURTHER INFORMATION CONTACT: Kristin Fontenot, Director, Office of Environmental Planning and Historic Preservation, Federal Insurance and Mitigation Administration, DHS/FEMA, 400 C Street SW., Suite 313, Washington, DC 20472-3020, 202-646-2741.

SUPPLEMENTARY INFORMATION: FEMA is separately publishing in this issue of the Federal Register a notice of proposed rulemaking that proposes revisions to 44 CFR part 9, Floodplain Management and Protection of Wetlands. As proposed, the notice of proposed rulemaking would revise 44 CFR part 9 to implement the Federal Flood Risk Management Standard (FFRMS). FEMA is proposing to issue a policy supplementary to the proposed changes to 44 CFR part 9, to provide further guidance on how FEMA intends to implement the FFRMS.

If finalized as proposed, the policy would provide specific guidelines to implement the FFRMS for FEMA Federally Funded Projects, which are actions involving the use of FEMA funds for new construction, substantial improvement, or to address substantial damage to a structure or facility. The policy would select the use of the FFRMS-Freeboard Value Approach to establish the elevation and FFRMS floodplain for FEMA Federally Funded Projects that are non-critical actions. For FEMA Federally Funded Projects that are critical actions, the policy would select the use of the FFRMS-Freeboard Value Approach to establish the minimum FFRMS elevation and floodplain for critical actions. The policy would allow optional use of the FFRMS-Climate-Informed Science Approach to establish the elevation and FFRMS floodplain for critical actions, but only if the elevation established under the FFRMS-Climate-Informed Science Approach is higher than the elevation established under the FFRMS-Freeboard Value Approach. The policy would also encourage early coordination when multiple Federal agencies are jointly engaged in an action to ensure a consistent approach to determine which floodplain determination is applied.

Authority: Executive Order 11988, Floodplain Management, as amended and implementing regulations at 44 CFR part 9.

Dated: August 15, 2016.
W. Craig Fugate,
Administrator, Federal Emergency Management Agency.

[FR Doc. 2016-19809 Filed 8-19-16; 8:45 am]

BILLING CODE 9111-66-P